DEPARTMENT OF ENERGY

10 CFR Part 431

[EERE-2022-BT-STD-0014]

RIN 1904-AF39

Energy Conservation Program: Energy Conservation Standards for Small Electric Motors; Extension of Comment Period

AGENCY: Office of Energy Efficiency and Renewable Energy, Department of Energy.

ACTION: Request for information; extension of public comment period.

SUMMARY: On April 20, 2022, the U.S. Department of Energy (“DOE”) published a request for information (“RFI”) regarding energy conservation standards for small electric motors. The RFI provided an opportunity for submitting written comments, data, and information by May 20, 2022. DOE received requests from the European Committee of Manufacturers of Electrical Machines and Power Electronics on April 29, 2022, the National Electrical Manufacturers Association on May 3, 2022, the Association of Home Appliance Manufacturers also on May 3, 2022, and the Air-Conditioning, Heating, and Refrigeration Institute on May 4, 2022, each asking DOE to extend the public comment period for an additional 30 days. DOE has reviewed these requests and is granting an extension of the public comment period to allow comments to be submitted until June 20, 2022.

DATES: The comment period for the RFI published on April 20, 2022 (87 FR 23471), is extended. DOE will accept comments, data, and information regarding the RFI received no later than June 20, 2022.

ADDRESSES: Interested persons are encouraged to submit comments using the Federal eRulemaking Portal at www.regulations.gov. Follow the instructions for submitting comments. Alternatively, interested persons may submit comments, identified by docket number EERE-2022-BT-STD-0014 by any of the following methods:

(1) Federal eRulemaking Portal: www.regulations.gov. Follow the instructions for submitting comments.

(2) Email: SmallElecMotors2022STD0014@ee.doe.gov. Include the docket number EERE-2022-BT-STD-0014 or regulatory information number (“RIN”) 1904-AF39 in the subject line of the message.

No telefacsimiles (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2022-BT-STD-0014. The docket web page contains instructions on how to access all documents, including public comments, in the docket.

FOR FURTHER INFORMATION CONTACT: Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment or review other public comments and the docket contact the Appliance and Equipment Standards Program staff at (202) 287-1445 or by email: ApplianceStandardsQuestions@ee.doe.gov.

SUPPLEMENTARY INFORMATION: On April 20, 2022, DOE published an RFI undertaking a review to determine whether to amend the current energy conservation standards for small electric motors. Specifically, the request for information (“RFI”) sought data and information to help DOE evaluate whether amended energy conservation standards would result in significant savings of energy; be technologically feasible; and be economically justified. 87 FR 23471. The RFI set a comment period deadline of May 20, 2022.

Interested parties in the matter, the European Committee of Manufacturers of Electrical Machines and Power Electronics (“CEMEP”) requested a 30-day extension of the public comment period to review and comment on the RFI given the global impact of a highly interconnected motor industry (CEMEP, EERE-2022-BT-STD-0014, No. 2 at p. 1). The National Electrical Manufacturers Association (“NEMA”) also requested a 30-day extension of the public comment period because NEMA staff and members of the Motor and Generator product section are wholly-occupied with developing responses to, and follow-on items for, the preliminary Technical Support Document for Electric Motor energy conservation standards (NEMA, EERE-2022-BT-STD-0003, No. 3 at p. 1). Additionally, the Association of Home Appliance Manufacturers (“AHAM”) requested a 30-day extension because of the overlap with several other rulemakings that AHAM has been involved in reviewing and commenting on (AHAM, EERE-2022-BT-STD-0014, No. 4 at p. 1). Finally, the Air-Conditioning, Heating, and Refrigeration Institute (“AHRI”) requested a 30-day extension of the comment period due to conflicts with several other rulemakings affecting AHRI members (AHRI, EERE-2022-BT-STD-0014, No. 5 at p. 1).

DOE has reviewed the requests and is extending the comment period to allow additional time for interested parties to submit comments. In light of the submitted requests, DOE believes that additional time is warranted, and is extending the comment period for 30 additional days, as requested. Therefore, comments on this RFI will be accepted until June 20, 2022.

Signing Authority

This document of the Department of Energy was signed on May 5, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 6, 2022.
Treena V. Garrett,
Federal Register Liaison Officer, U.S. Department of Energy.

[FR Doc. 2022-10085 Filed 5-10-22; 8:45 am]

BILLING CODE 6450-01-P